DEPARTMENT OF LABOR

Employment and Training Administration

Technical Change to the Filing Location of Prevailing Wage Determinations for Use in the H-1B, H-1B1 (Chile/Singapore), H-1C, H-2B, E-3 (Australia), and Permanent Labor Certification Programs; Prevailing Wage Determinations for Use in the Commonwealth of the Northern Mariana Islands; Address Correction

AGENCY: Employment and Training Administration, Department of Labor.

ACTION: Notice; address correction.

SUMMARY: This Notice announces a change in the address where prevailing wage determination requests for H-1B, H-1B1 (Chile/Singapore), H-1C, H-2B, E-3 (Australia), and Permanent Labor Certification Programs; Prevailing Wage Determinations for Use in the Commonwealth of the Northern Mariana Islands will be filed and/or are being processed.

DATES: This notice is effective March 12, 2010.

FOR FURTHER INFORMATION CONTACT: William L. Carlson, PhD, Administrator, Office of Foreign Labor Certification, U.S. Department of Labor, 200 Constitution Avenue, NW., Room C-4312, Washington, DC 20210; telephone: (202) 693-3010 (this is not a toll-free number).

SUPPLEMENTARY INFORMATION:

I. Background

On December 4, 2009 the Office of Foreign Labor Certification (OFLC) published in the Federal Register a Notice informing the public that the processing of all prevailing wage determination (PWD) requests for the above-referenced labor certification programs will be centralized in OFLC's National Prevailing Wage and Helpdesk Center (NPWHC) in Washington, DC. 74 FR 63796, Dec. 4, 2009. The NPWHC receives and processes PWD requests in accordance with the applicable regulations and Department guidance.

The purpose of this Notice is to inform the public about a minor technical correction to the address for the NPWHC. Since the Department published the Notice on December 4th the four digit extension to the postal code has been revised by the U.S. Postal Service. Though the Department believes that it has received all mailings submitted to the addresses listed within this Notice, the Department wants to provide the public with the correct extended zip code in order to insure that the Department is receiving mail regarding PWDs without any foreseeable delay. The address change will be effective as of the effective date of this Notice.

II. Addresses

a. PWD Requests

Old Address: U.S. Department of Labor-ETA, National Prevailing Wage and Helpdesk Center, Attn: PWD Request; 1341 G Street, NW., Suite 201, Washington, DC 20005-3142.

New Address: U.S. Department of Labor-ETA, National Prevailing Wage and Helpdesk Center, Attn: PWD Request; 1341 G Street, NW., Suite 201, Washington, DC 20005-3105.

b. Redeterminations

Old Address: PW Redetermination, 1341 G Street, NW., Suite 201, Washington, DC 20005-3142.

New Address: PW Redetermination, 1341 G Street, NW., Suite 201, Washington, DC 20005-3105.

c. OFLC Review

Old Address: U.S. Department of Labor-ETA; National Prevailing Wage and Helpdesk Center; Attn.: PWD Review, 1341 G Street, NW., Suite 201, Washington, DC 20005-3142.

New Address: U.S. Department of Labor-ETA; National Prevailing Wage and Helpdesk Center; Attn.: PWD Review, 1341 G Street, NW., Suite 201, Washington, DC 20005-3105.

d. BALCA Review of PWDs

Old Address: U.S. Department of Labor-ETA, National Prevailing Wage and Helpdesk Center, Attn.: PWD Appeal, 1341 G Street, NW., Suite 201, Washington, DC 20005-3142.

New Address: U.S. Department of Labor-ETA; National Prevailing Wage and Helpdesk Center; Attn.: PWD Appeal, 1341 G Street, NW., Suite 201, Washington, DC 20005-3105.

Signed in Washington, DC, this 8th day of March 2010.
Jane Oates,
Assistant Secretary, Employment and Training Administration.

[FR Doc. 2010-5443 Filed 3-11-10; 8:45 am]

BILLING CODE 4510-FP-P